DEPARTMENT OF LABOR

Occupational Safety and Health Administration

Charter Renewal for the Maritime Advisory Committee for Occupational Safety and Health (MACOSH)

AGENCY: Occupational Safety and Health Administration (OSHA), Labor.

ACTION: MACOSH charter renewal; notice of.

SUMMARY: In accordance with the provisions of the Federal Advisory Committee Act, as amended (5 U.S.C., App. 2), and after consultation with the General Services Administration, the Secretary of Labor has determined that the charter renewal of the Maritime Advisory Committee for Occupational Safety and Health (“Committee”) is in the public interest. The Committee will better enable OSHA to perform the duties imposed by the Occupational Safety and Health Act of 1970 (“OSH Act”), 29 U.S.C. 651 et seq.). Authority to establish this Committee is found in Sections 6(b) and 7(b) of the OSH Act, Section 41 of the Longshore and Harbor Workers' Compensation Act (33 U.S.C. 941), other general agency authority in Title 5 of the United States Code, and 29 CFR part 1912.

FOR FURTHER INFORMATION CONTACT: Joseph V. Daddura, Director, Office of Maritime, Directorate of Standards and Guidance, U.S. Department of Labor, Occupational Safety and Health Administration, Room N-3609, 200 Constitution Avenue, NW., Washington, DC 20210; telephone: (202) 693-2086.

SUPPLEMENTARY INFORMATION:

I. Background

The Committee will advise OSHA on matters relevant to the safety and health of employees in the maritime industry. This includes advice on maritime issues that will result in more effective enforcement, training, and outreach programs, and streamlined regulatory efforts. The maritime industry includes the shipbuilding, ship-repair, shipbreaking, longshoring, and marine-terminal industries.

The Committee will function solely as an advisory body and in compliance with the provisions of the Federal Advisory Committee Act and OSHA's regulations covering advisory committees (29 CFR part 1912). The Committee charter will be filed 15 days from the date of this publication.

II. Authority and Signature

This notice was prepared under the direction of Edwin G. Foulke, Jr., Assistant Secretary of Labor for Occupational Safety and Health, U.S. Department of Labor, 200 Constitution Avenue, NW., Washington, DC 20210, pursuant to Sections 6(b) and 7(b) of the Occupational Safety and Health Act of 1970 (29 U.S.C. 655, 656), Section 41 of the Longshore and Harbor Workers' Compensation Act (33 U.S.C. 941), other general agency authority in Title 5 of the United States Code, and 29 CFR part 1912.

Signed at Washington, DC this 16th day of September 2008.
Edwin G. Foulke, Jr.,
Assistant Secretary of Labor for Occupational Safety and Health.

[FR Doc. E8-21983 Filed 9-19-08; 8:45 am]

BILLING CODE 4510-26-P